DEPARTMENT OF DEFENSE

Office of the Secretary

Defense Business Board; Notice of Federal Advisory Committee Meeting; Correction

AGENCY: DoD.

ACTION: Meeting notice; correction.

SUMMARY: On April 2, 2013 (78 FR 19691), the Department of Defense published a notice announcing a meeting of the Defense Business Board. Under the provisions of the Federal Advisory Committee Act of 1972 (5 U.S.C., Appendix, as amended), the Government in the Sunshine Act of 1976 (5 U.S.C. 552b, as amended), and 41 CFR 102-3.150, the Department of Defense announces that the meeting time and agenda have changed. All other information in the April 2, 2013 notice remains the same.

DATES: The public meeting of the Defense Business Board will be held on Thursday, April 25, 2013. The meeting will begin at 12:30 p.m. and will now end at 1:45 p.m.

FOR FURTHER INFORMATION CONTACT: The Board's Designated Federal Officer is Phyllis Ferguson, Defense Business Board, 1155 Defense Pentagon, Room 5B1088A, Washington, DC 20301-1155, Phyllis.Ferguson@osd.mil, 703-695-7563. For meeting information please contact Ms. Debora Duffy, Defense Business Board, 1155 Defense Pentagon, Room 5B1088A, Washington, DC 20301-1155, Debora.Duffy@osd.mil, (703) 697-2168.

SUPPLEMENTARY INFORMATION:

Purpose of the Meeting: At this meeting, the Board will deliberate the findings and draft recommendations from the Task Group “Applying Best Business Practices for Corporate Performance Management to DoD.”

Meeting Agenda:

12:30 p.m.-1:45 p.m. Task Group Outbrief and Board Deliberations, “Applying Best Business Practices for Corporate Performance Management to DoD”

Public's Accessibility to the Meeting: Pursuant to 5 U.S.C. 552b and 41 CFR 102-3.140 through 102-3.165, and the availability of space, this meeting is open to the public. Seating is limited and is on a first-come basis. All members of the public who wish to attend the public meeting must contact Ms. Debora Duffy at the number listed in FOR FURTHER INFORMATION CONTACT no later than 12:00 p.m. on Monday, April 22, 2013 to register and make arrangements for a Pentagon escort, if necessary. Public attendees requiring escort should arrive at the Pentagon Metro Entrance with sufficient time to complete security screening no later than 12:10 p.m. on April 25. To complete security screening, please come prepared to present two forms of identification and one must be a pictured identification card.

Dated: April 16, 2013.
Aaron Siegel,
Alternate OSD Federal Register Liaison Officer, Department of Defense.

[FR Doc. 2013-09208 Filed 4-18-13; 8:45 am]

BILLING CODE 5001-06-P